DEPARTMENT OF COMMERCE

National Oceanic and Atmospheric Administration

RIN 0649-XF555

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a one-day meeting of its Outreach and Education Technical Committee.

DATES: The meeting will convene on Tuesday, August 1, 2017, 9 a.m.-4 p.m., EDT.

ADDRESSES: The meeting will be held at the Gulf Council Office.

Council address: Gulf of Mexico Fishery Management Council, 2203 N. Lois Avenue, Suite 1100, Tampa, FL 33607; telephone: (813) 348-1630.

FOR FURTHER INFORMATION CONTACT: Emily Muehlstein, Public Information Officer, Gulf of Mexico Fishery Management Council; emily.muehlstein@gulfcouncil.org, telephone: (813) 348-1630.

SUPPLEMENTARY INFORMATION:

Agenda

Tuesday, August 1, 2017; 9 a.m. until 4 p.m.

The committee will begin with introductions and adoption of agenda, approval of the June 2016 meeting summary, and discuss the use of proxy attendees. The committee will review and discuss agency efforts and identify the agency point person for Fish Measurement (triggerfish) Outreach, Barotrauma and Use of Venting and Descending Tools Outreach, Lionfish Outreach, and Anecdotal (angler reported) Data Collection.

The committee will review the Fisherman's Conservation Best Practices Web page; and discuss any other business.

Meeting Adjourns

The meeting will be broadcast via webinar. You may listen in by registering for Outreach & Education Technical Committee on Tuesday, August 1, 2017 at: https://register .gotowebinar.com/register/2487568475712856322.

The Agenda is subject to change, and the latest version along with other meeting materials will be posted on the Council's file server. To access the file server, the URL is https://public.gulfcouncil.org:5001/webman/index.cgi, or go to the Council's Web site and click on the FTP link in the lower left of the Council Web site (http://www.gulfcouncil.org). The username and password are both “gulfguest”. Click on the “Library Folder”, then scroll down to “Outreach & Education Technical Committee meeting—2017-08”.

Although other non-emergency issues not on the agenda may come before the Technical Committee for discussion, in accordance with the Magnuson-Stevens Fishery Conservation and Management Act, those issues may not be the subject of formal action during this meeting. Actions of the Technical Committee will be restricted to those issues specifically identified in the agenda and any issues arising after publication of this notice that require emergency action under section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Gulf Council Office (see ADDRESSES), at least 5 working days prior to the meeting.

Authority: 16 U.S.C. 1801 et seq.

Dated: July 14, 2017.
Tracey L. Thompson,
Acting Director, Office of Sustainable Fisheries, National Marine Fisheries Service.

[FR Doc. 2017-15150 Filed 7-18-17; 8:45 am]

BILLING CODE 3510-22-P